DEPARTMENT OF THE INTERIOR

Fish and Wildlife Service

Notice of Availability of the Draft Comprehensive Conservation Plan and Environmental Assessment for Lacreek National Wildlife Refuge and Wetland Management District, Martin, SD

AGENCY: Fish and Wildlife Service, Interior.

ACTION: Notice of availability.

SUMMARY: The U.S. Fish and Wildlife Service (Service) announces that the Draft Comprehensive Conservation Plan and Environmental Assessment (CCP/EA) for the Lacreek National Wildlife Refuge (Refuge) and Wetland Management District (WMD) is available for public review and comment. This Draft CCP/EA was prepared pursuant to the National Wildlife Refuge System Administration Act, as amended, and the National Environmental Policy Act. The Draft CCP/EA describes the Service's proposal for management of the Refuge for 15 years.

DATES: Written comments must be received at the postal or electronic addresses listed below by February 13, 2006. Comments may also be submitted via electronic mail to: linda_kelly@fws.gov.

ADDRESSES: To provide written comments or to obtain a copy of the Draft CCP/EA, please write to Linda Kelly, Planning Team Leader, U.S. Fish and Wildlife Service, P.O. Box 25486, Denver Federal Center, Denver, Colorado 80225-0486; (303) 236-8132; fax (303) 236-4792, or Tom Koerner, Refuge Manager, Lacreek National Wildlife Refuge, 29746 Bird Road, Martin, South Dakota, 57551; (605) 685-6508; fax (605) 685-1173. The Draft CCP/EA will also be available for viewing and downloading online at http://mountain-prairie.fws.gov/planning.

FOR FURTHER INFORMATION CONTACT: Linda Kelly, Planning Team Leader, at the above address or at (303) 236-8132.

SUPPLEMENTARY INFORMATION: The National Wildlife Refuge System Administration Act of 1966, as amended by the National Wildlife Refuge System Improvement Act of 1997 (16 U.S.C. 668dd-668ee), requires the Service to develop a CCP for the Refuge. The purpose in developing a CCP is to provide refuge managers with a 15-year strategy for achieving refuge purposes and contributing toward the mission of the National Wildlife Refuge System, consistent with sound principles of fish and wildlife science; conservation; legal mandates; and Service policies. In addition to outlining broad management direction on conserving wildlife and their habitats, the CCP identifies wildlife-dependent recreational opportunities available to the public, including opportunities for hunting; wildlife observation and photography; and environmental education and interpretation. We will review and update these CCPs at least every 15 years in accordance with the National Wildlife Refuge System Administration Act of 1966, as amended by the National Wildlife Refuge System Improvement Act of 1997, and the National Environmental Policy Act of 1969 (42 U.S.C. 4321-4370d).

Background: The Refuge was established in 1935 by President Franklin D. Roosevelt through Executive Order No. 7160 “* * * as a refuge and breeding ground for migratory birds and other wildlife.” The Refuge lies in the Lake Creek Valley on the northern edge of the Nebraska Sandhills and includes 16,410 acres of native sandhills, sub-irrigated meadows, impounded fresh water marshes, and tall and mixed grass prairie uplands.

The WMD was started as part of the Small Wetlands Acquisition Program, in the 1950s, to save wetlands from various threats, particularly draining. The passage of Public Law 85-585, in August of 1958, amended the Migratory Bird Hunting and Conservation Stamp Act (Duck Stamp Act) of 1934, allowing for the acquisition of Waterfowl Production Areas and Easements for Waterfowl Management Rights (easements). The WMD is located in Stanley, Todd, Harding, Jackson, Jones, Lawrence, Lyman, Meade, Mellette, Fall River, Haakon, Custer, Pennington, Bennett, and Butte counties.

Significant issues addressed in the Draft CCP/EA include: habitat and wildlife management; visitor services; cultural resources; and partnerships. The Service developed three alternatives for management of the Refuge: Alternative A—No Action; Alternative B—Integrated Restoration (Proposed Action); Alternative C—Comprehensive Grassland Restoration. All three alternatives outline specific management objectives and strategies related to wildlife and habitat management, visitor services, cultural resources, and partnerships.

Alternative A—Current Management (No Action): Under this alternative, management activity being conducted by the Service would remain the same. The Service would not develop any new management, restoration, or education programs at the Refuge. Current habitat and wildlife practices benefiting migratory species and other wildlife would not be expanded or changed. The staff would perform limited, issue-driven research and only monitor long-term vegetation change. No new species management would be initiated, including black-tailed prairie dogs. No new funding or staff levels would occur, and programs would follow the same direction, emphasis, and intensity as they do at present. The staff would continue to manage the WMD through monitoring and enforcing easements.

Alternative B—Integrated Restoration (Proposed Action): This alternative is the proposed action for the Refuge and WMD Draft CCP/EA. Through an integrated restoration approach, the Refuge would strive to restore ecological processes and achieve habitat conditions that require reduced management over time while recognizing the place of the Refuge in the overall landscape and community. An emphasis on monitoring the effects of habitat management practices and use of the research results to direct ongoing restoration would be a priority. Current levels of priority public uses and activity would increase. New species management would be initiated for black-tailed prairie dogs to facilitate prairie restoration efforts and reduce damage to adjacent private lands. The staff would continue to manage the WMD through monitoring and enforcement of easements.

Alternative C—Comprehensive Grassland Restoration: Under this alternative, the Refuge staff would focus management on restoration of grassland habitat and its associated species. Current levels of priority wildlife-dependent public uses would increase with educational priorities placed on habitat restoration. Research activities would focus on management practices on targeted grassland species. No new species management would be initiated, including black-tailed prairie dogs. The staff would continue to manage the WMD through monitoring and enforcement of easements.

The review and comment period is 30 calendar days commencing with publication of this Notice of Availability in the Federal Register. After the review and comment period for this Draft CCP/EA, all comments will be analyzed and considered by the Service. All comments received from individuals on the Draft CCP/EA become part of the official public record. Requests for such comments will be handled in accordance with the Freedom of Information Act and other Service and Departmental policies and procedures.

Dated: November 28, 2005.
Ralph O. Morgenweck,
Regional Director, Region 6, Denver, CO.

[FR Doc. E6-302 Filed 1-12-06; 8:45 am]

BILLING CODE 4310-55-P